DEPARTMENT OF COMMERCE

International Trade Administration

[C-122-858]

Certain Softwood Lumber From Canada: Final Results of Countervailing Duty Changed Circumstances Review

AGENCY: Enforcement and Compliance, International Trade Administration, Department of Commerce.

SUMMARY: On January 16, 2024, the U.S. Department of Commerce (Commerce) published the notice of initiation and preliminary results of a changed circumstances review (CCR) of the countervailing duty (CVD) order on certain softwood lumber from Canada. For these final results, Commerce continues to find that Interfor Corporation, EACOM Timber Corporation, Chaleur Forest Products Inc., and Chaleur Forest Products LP are cross-owned entities in the context of the CVD order on certain softwood lumber from Canada.

DATES: Applicable March 12, 2024.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On January 16, 2024, Commerce published the Preliminary Results, finding that the following companies are cross-owned entities: Interfor Corporation; EACOM Timber Corporation; Chaleur Forest Products Inc.; and Chaleur Forest Products LP.¹ In the Preliminary Results, we provided interested parties an opportunity to comment and request a public hearing regarding Commerce's preliminary findings. The petitioner ² submitted comments agreeing with our preliminary findings, and we received no other comments from interested parties.³ Additionally, we received no requests for a public hearing from interested parties.

¹See Certain Softwood Lumber from Canada: Preliminary Results of Changed Circumstances Review, 89 FR 2583 (January 16, 2024) (Preliminary Results), and accompanying Preliminary Decision Memorandum (PDM).

² The petitioner is the COALITION, an ad hoc association whose members are: U.S. Lumber Coalition, Inc.; Collum's Lumber Products, L.L.C.; Fox Lumber Sales, Inc.; Hankins, Inc.; Pleasant River Lumber Company; PotlatchDeltic; S.I. Storey Lumber Co., Inc.; Stimson Lumber Company; Swanson Group; Weyerhaeuser Company; Giustina Land and Timber Company; and Sullivan Forestry Consultants, Inc.

³ See Petitioner's Letter, “Petitioner's Letter in Lieu of Case Brief,” dated January 26, 2024.

Scope of the Order

The merchandise covered by this Order is softwood lumber, siding, flooring, and certain other coniferous wood (softwood lumber products). For a complete description of the scope of the Order, see the Preliminary Results PDM.

Final Results of Changed Circumstances Review

For the reasons stated in the Preliminary Results, and because we received no comments from interested parties to the contrary, Commerce continues to find that Interfor Corporation, EACOM Timber Corporation, Chaleur Forest Products Inc., and Chaleur Forest Products LP are cross-owned entities.⁴ Because our findings remain unchanged from the Preliminary Results, no decision memorandum accompanies this notice. We are adopting the Preliminary Results as the final results in this CCR. See the Preliminary Results PDM for a complete discussion of our findings.

⁴ However, as Commerce noted in the Preliminary Results, these cross-ownership findings do not speak to the applicable cash deposit rates of the relevant entities. See Preliminary Results, 89 FR at 2584 and PDM at footnote 36.

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

This notice is published in accordance with sections 751(b)(1) and 777(i)(1) and (2) of the Tariff Act of 1930, as amended, and 19 CFR 351.216(e), 351.221(b), and 351.221(c)(3).

Dated: March 6, 2024.
Ryan Majerus,
Deputy Assistant Secretary for Policy and Negotiations, performing the non-exclusive functions and duties of the Assistant Secretary for Enforcement and Compliance.

[FR Doc. 2024-05223 Filed 3-11-24; 8:45 am]

BILLING CODE 3510-DS-P